DEPARTMENT OF COMMERCE

National Oceanic and Atmospheric Administration

RIN 0648-XE723

South Atlantic Fishery Management Council (SAFMC); Public Meetings

AGENCY: National Marine Fisheries Service (NMFS), National Oceanic and Atmospheric Administration (NOAA), Commerce.

ACTION: Notice of public hearings and scoping meetings.

SUMMARY: The South Atlantic Fishery Management Council (Council) will hold a series of public hearings pertaining to Framework Amendment 4 to the Coastal Migratory Pelagic (CMP) Fishery Management Plan for the Gulf of Mexico and South Atlantic addressing management measures for Atlantic cobia in federal waters, and Amendment 41 to the Snapper Grouper Fishery Management Plan for the South Atlantic addressing measures for mutton snapper in federal waters. Scoping comments will also be accepted for options being considered in Joint Dolphin Wahoo Amendment 10 and Snapper Grouper Amendment 44 to address allocations for dolphin fish and yellowtail snapper in federal waters. Question and Answer sessions for Framework Amendment 4 to the CMP Fishery Management Plan and for Amendment 41 to the Snapper Grouper Fishery Management Plan will also be held via webinar. A Question and Answer session for Joint Dolphin Wahoo Amendment 10 and Snapper Grouper Amendment 44 will be held as part of the scoping session.

DATES: The Q&A sessions and series of public hearings/scoping meetings will be held from August 1 through August 17, 2016. All webinars and meetings will begin at 6 p.m.

Registration is required for the Q&A sessions and public hearing/scoping meetings held via webinar. Registration information will be posted on the SAFMC Web site at www.safmc.net as it becomes available.

ADDRESSES: Council address: South Atlantic Fishery Management Council, 4055 Faber Place Drive, Suite 201, N. Charleston, SC 29405. For additional information on the Webinars, Hearings, and Agenda, see Dates, Addresses, and Agenda.

FOR FURTHER INFORMATION CONTACT: Kim Iverson, Public Information Officer, SAFMC; phone: (843) 571-4366 or toll free (866) SAFMC-10; fax: (843) 769-4520; email: kim.iverson@safmc.net.

SUPPLEMENTARY INFORMATION: The Council is soliciting public hearing comments on proposed measures in CMP Framework Amendment 4 addressing proposed management measures for Atlantic cobia in federal waters from the Florida/Georgia line northward to New York. The Atlantic cobia fishery was closed to recreational harvest on June 20, 2016 in federal waters after NOAA Fisheries determined that the recreational annual catch limit had been exceeded in 2015. Exceeding the 2015 annual catch limit triggered the accountability measures in place for Atlantic cobia to prevent overfishing, resulting in the shortened recreational season in 2016. Measures proposed in Framework Amendment 4 are designed to help ensure consistent and stable fishing opportunities for all participants in the fishery and include: (1) Reducing the recreational bag limit with a preferred alternative to reduce the daily bag limit from 2 per person/day to 1 per person/day; (2) establishing a recreational vessel limit with a preferred alternative of 3 per vessel/day; (3) modifying the recreational fishing year with a preferred alternative for the year to begin May 1st; (4) modifying the recreational minimum size limit; (5) modifying the current accountability measure; and (6) changes to the commercial harvest limit.

The Council is also soliciting public hearing comments on Snapper Grouper Amendment 41 addressing proposed management measures for mutton snapper. Stakeholders have expressed concerns about fishing pressure that occurs each spring as mutton snapper gather to spawn. Measures in Amendment 41 include actions to: (1) Modify the current annual catch limit for mutton snapper based on the most recent stock assessment; (2) reduce the current bag limit of 10 fish per person/day within the snapper aggregate with a preferred alternative of 3 fish per person/day year round; (3) establish a commercial trip limit with the preferred alternative of 300 pounds and 3 fish per person/day during the spawning season months (April-June); and (4) modify the current minimum size limit with the preferred alternative to increase the limit from 16 to 18 inches total length.

Public scoping comments are being solicited for measures proposed in Joint Dolphin Wahoo Amendment 10/Snapper Grouper Amendment 44 addressing potential allocation measures for dolphin fish and yellowtail snapper. Public scoping occurs early in the amendment development process and the Council is soliciting input on proposed options that include a common pool allocation, a reserve category, temporary shifts in allocation, combined annual catch limits, a permanent allocation shift for dolphin and/or yellowtail snapper, and allocations by gear type for the commercial sector in the dolphin fishery. Measures proposed for dolphin would apply in federal waters along the entire Atlantic coast.

Dates, Addresses, and Agenda

Webinars

1. August 1, 2016—Q&A Session and Public Hearing for CMP Framework Amendment 4 (Atlantic Cobia)

2. August 2, 2016—Q&A Session and Public Hearing for Snapper Grouper Amendment 41 (Mutton Snapper)

3. August 4, 2016—Q&A Session and Public Scoping of Joint Dolphin Wahoo Amendment 10/Snapper Grouper Amendment 44 (Allocation of Dolphin and Yellowtail Snapper)

In-Person Public Hearings

Coastal Migratory Pelagics Framework Amendment 4 (Atlantic Cobia)

1. August 3, 2016—Crowne Plaza Hotel, 4831 Tanger Outlet Boulevard, N. Charleston, SC 29418; phone: (843) 744-4422.

2. August 8, 2016—Holton Restaurant, 13711 E. Oglethorpe Highway, Midway, GA 31320; phone: (912) 884-9151.

3. August 9, 2016—Hilton Virginia Beach, 3001 Atlantic Avenue, Virginia Beach, VA 23451; phone: (757) 213-3001.

4. August 9, 2016—Hampton Inn, 29 William Pope Drive, Bluffton, SC 29909; phone: (843) 705-9000.

5. August 10, 2016—NC Division of Marine Fisheries, Central District Office, 5285 Highway 70 West, Morehead City, NC 28557; phone: (252) 499-9200.

6. August 11, 2016—Hilton Garden Inn, 5353 N. Virginia Dare Trail, Kitty Hawk, NC 27949; phone: (252) 261-1290.

7. August 11, 2016—Murrells Inlet Community Center, 4462 Murrells Inlet Road, Murrells Inlet, SC 29576; phone: (904) 396-5100.

Snapper Grouper Amendment 41 (Mutton Snapper)

1. August 15, 2016—Hilton Garden Inn—Ft. Lauderdale Airport, 180 SW 18th Avenue, Dania Beach, FL 33004; phone: (954) 924-9204.

2. August 16, 2016—Hawks Cay Resort, 61 Hawks Cay Blvd., Duck Key, FL 33050; phone: (305) 743-7000.

3. August 17, 2016—Marriott Beachside Hotel, 3841 N. Roosevelt Blvd., Key West, FL 33040; phone: (305) 296-8100.

Submitting Written Comments

The Council requests that written comments be submitted using the online public comment form. Comments submitted using the online comment form are immediately posted to the Council's Web site at www.safmc.net and available for all Council members and the public to view. Written comments may also be submitted by mail or fax.

The comment period will open on July 18, 2016 once amendment materials are posted to the Web site. All written comments are due by 5 p.m. on August 19, 2016.

Comments may be submitted by mail to: Gregg Waugh, Executive Director, SAFMC, 4055 Faber Place Drive, Suite 201, North Charleston, SC 29405. Fax comments to (843) 769-4520. Comments using the online public comment form: Use the comment form links on the Public Hearing and Scoping Meeting page on the Council's Web site to submit comments on each amendment. All comments submitted will be automatically posted to the Web site and accessible for the public to view. The direct link to the Public Hearing and Scoping meeting page is: http://safmc.net/meetings/public-hearing-and-scoping-meeting-schedule.

Copies of the public hearing documents, scoping document, and other relevant informational material will be posted on the Council's Web site at www.safmc.net as they become available.

Special Accommodations

These meetings are physically accessible to people with disabilities. Requests for auxiliary aids should be directed to the council office (see ADDRESSES) 3 days prior to the meeting.

Note: The times and sequence specified in this agenda are subject to change.

Authority: 16 U.S.C. 1801 et seq.

Dated: July 12, 2016.
Jeffrey N. Lonergan,
Acting Deputy Director, Office of Sustainable Fisheries, National Marine Fisheries Service.

[FR Doc. 2016-16801 Filed 7-14-16; 8:45 am]

BILLING CODE 2510-22-P